DEPARTMENT OF THE INTERIOR

National Park Service

Notice of Intent to Repatriate Cultural Items: American Museum of Natural History, New York, NY

AGENCY: National Park Service, Interior.

ACTION: Notice.

Notice is here given in accordance with the Native American Graves Protection and Repatriation Act (NAGPRA), 25 U.S.C. 3005, of the intent to repatriate cultural items in the possession of the American Museum of Natural History, New York, NY, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 20 cultural items are a Chilkat blanket and a shaman's kit that consists of 7 masks, 1 waist robe, 1 shoulder robe, 1 bead, 1 crown, 1 headdress ornament, 1 carving, 2 bracelets, 1 charm, 1 club, 1 pair of earrings, and 1 nose ring.

The Chilkat blanket is woven from mountain goat wool and is ornamented to represent a hawk. The blanket is fringed along the sides and bottom. All seven masks from the shaman's kit are carved from wood, painted, and ornamented in various designs. The first mask is painted red, green, and brown and is ornamented with devilfish tentacles encircling the face. The second mask is painted red, green, and brown and represents a sun dog spirit. The third mask is painted red, green, and brown, is ornamented with bear skin, and represents the spirit living on a small lake. The fourth mask is painted green and brown, is ornamented with black bear fur across the forehead and copper at the nostrils and lips, and represents a land otter man. The fifth mask is painted green, red, and brown, is ornamented with brass at the eyes, nostrils, and lips, and represents the spirit of the trout canoe. The sixth mask is painted green, red, and brown, and represents the spirit living in the stars. The seventh mask is painted green, red, and brown, is ornamented with a copper tongue, and represents the deer spirit. The waist robe is made from a caribou hide that is ornamented with deer hoofs, crested puffin bills, and feathers. The shoulder robe is made from moose hide and represents a whale. The bead is made of carved bone. The crown is made of mountain goat horns. The headdress ornament is made from wood and is carved to represent a bear's head below the dorsal fin of a killer whale. The carving represents a salmon upon which is carved the figure of a crab. The two bracelets are made of bone and one is carved with intersecting lines. The charm is made of stone and is carved to represent an eagle. The club is made of carved wood and represents a salmon with a human head in its mouth. The earrings are made of bone and are carved to represent a salmon. The nose ring is made of ivory.

At an unknown date, Lieutenant George Thornton Emmons acquired the Chilkat blanket. In 1894, the American Museum of Natural History purchased the Chilkat blanket from Lieutenant Emmons and accessioned it into its collection that same year.

Lieutenant Emmons purchased the shaman's kit in 1899. Museum records indicate that Lieutenant Emmons purchased the kit through a friend who had been in “Auk country.” In 1900, the American Museum of Natural History purchased the shaman's kit from Lieutenant Emmons and accessioned it into its collection that same year.

The cultural affiliation of the Chilkat blanket is Hutsnuwu (“Hootz¯ar¯rar qwan”) Tlingit as indicated through Museum records and consultation with representatives of Central Council of the Tlingit and Haida Indian Tribes. The Central Council of the Tlingit and Haida Indian Tribes has requested the blanket on behalf of the clans of Angoon. The cultural affiliation of the shaman's kit is Auk Tlingit as indicated by Museum records and by consultation evidence provided by the Central Council of the Tlingit and Haida Indian Tribes. Museum records indicate that the shaman's kit was removed from a grave house in Berner's Bay and belonged to the chief doctor Kow¯ee of the “Thlu¯kar tee” family of the Auk Kwan. The Central Council of the Tlingit and Haida Indian Tribes requested the shaman's kit on behalf of the L'eeneidi clan of the Auk Kwan.

Officials of the American Museum of Natural History have determined that, pursuant to 25 U.S.C. 3001 (3)(B), the 20 cultural items described above are reasonably believed to have been placed with or near individual human remains at the time of death or later as part of the death rite or ceremony and are believed, by a preponderance of the evidence, to have been removed from a specific burial site of a Native American individual. Officials of the American Museum of Natural History also have determined that, pursuant to 25 U.S.C. 3001 (2), there is a relationship of shared group identity that can be reasonably traced between the unassociated funerary objects and the Central Council of the Tlingit and Haida Indian Tribes.

Representatives of any other Indian tribe that believes itself to be culturally affiliated with the unassociated funerary objects should contact Nell Murphy, Director of Cultural Resources, American Museum of Natural History, Central Park West at 79th Street, New York, NY 10024, telephone (212) 769-5837, before January 21, 2005. Repatriation of the unassociated funerary objects to the Central Council of the Tlingit and Haida Indian Tribes may proceed after that date if no additional claimants come forward.

The American Museum of Natural History is responsible for notifying the Central Council of the Tlingit and Haida Indian Tribes, Douglas Indian Association, Goldbelt Incorporated, Angoon Community Association, Kootznoowoo, Incorporated, and Sealaska Heritage Foundation that this notice has been published.

Dated: November 16, 2004
Sherry Hutt,
Manager, National NAGPRA Program.

[FR Doc. 04-28001 Filed 12-21-04; 8:45 am]

BILLING CODE 4312-50-S